ELECTION ASSISTANCE COMMISSION

Request for Substantive Comments; EAC's Voting System Test Laboratory Accreditation Program Manual

AGENCY: United States Election Assistance Commission (EAC).

ACTION: Notice; request for substantive comments.

SUMMARY: The EAC has drafted a procedural manual for its Voting System Test Laboratory Accreditation Program. This manual establishes the administrative procedures for obtaining an EAC accreditation for Voting System Test Laboratories (VSTL). Section 231(b) of the Help America Vote Act (HAVA) of 2002 (42 U.S.C. 15371(b)) requires that the EAC provide for the accreditation and revocation of accreditation of independent, non-federal laboratories qualified to test voting systems to Federal standards. In order to meet its statutory requirements under HAVA 15371(b), the EAC has developed the EAC's Voting System Test Laboratory Accreditation Program. Although participation in the program is voluntary, adherence to the program's procedural requirements is mandatory for participants. The procedural requirements of this Manual will supersede any prior laboratory accreditation requirements issued by the EAC. This manual shall be read in conjunction with the EAC's Voting System Testing and Certification Program Manual (OMB 3265-0004). The purpose of this notice is to request public comment on the substantive aspects of the program.

Substantive Comments: The EAC seeks substantive comments from the public on its proposed procedural manual. Please submit comments consistent with the information below. Comments should identify and cite the section of the manual at issue. Where a substantive issue is raised, please propose a recommended change or alternative policy. All comments submitted will be published at the end of the comment period on the EAC's Web site http://www.eac.gov. This publication and request for comment is not required under the rulemaking, adjudicative, or licensing provisions of the Administrative Procedures Act (APA). It is a voluntary effort by the EAC to gather input from the public on the EAC's administrative procedures for accrediting Voting System Test Laboratories. Furthermore, this request by the EAC for public comment is not intended to make any of the APA's rulemaking provisions applicable to development of this or future EAC procedural programs. However, in accordance with the Paperwork Reduction Act of 1995, a separate notice will be published on the Federal Register to request comments regarding the burden of responding to the information collection activities of the proposed manual; please refer to the EAC's Web site, http://www.eac.gov, for further information about the submission of comments regarding burden.

DATES: Submit written or electronic comments on this draft procedural manual on or before 5 p.m. EDT on April 4, 2008.

ADDRESSES: Submit comments via e-mail to testlaboratoryaccreditation@eac.gov; via mail to Brian Hancock, Director of Voting System Certification, U.S. Election Assistance Commission, 1225 New York Avenue, Suite 1100, Washington, DC 20005; or via fax to 202-566-1392. An electronic copy of the proposed guidance may be found on the EAC's Web site http://www.eac.gov.

FOR FURTHER INFORMATION CONTACT: Matthew Masterson, Testing and Certification Program Associate, 1225 New York Avenue, Suite 1100, Washington, DC, (202) 566-3100, Fax: (202) 566-1392.

Thomas R. Wilkey,
Executive Director, U.S. Election Assistance Commission.

[FR Doc. 08-452 Filed 2-1-08; 8:45 am]

BILLING CODE 6820-KF-M